DEPARTMENT OF LABOR

Employment and Training Administration

[TA-W-60,068]

Burley Design, Inc. Eugene, OR; Notice of Termination of Investigation

Pursuant to Section 221 of the Trade Act of 1974, as amended, an investigation was initiated on September 13, 2006 in response to a worker petition filed by a company official on behalf of workers at Burley Design, Inc., Eugene, Oregon.

The petitioner has requested that the petition be withdrawn. Consequently, the investigation has been terminated.

Signed at Washington, DC, this 26th day of October 2006.
Richard Church,
Certifying Officer, Division of Trade Adjustment Assistance.

[FR Doc. E6-18638 Filed 11-3-06; 8:45 am]

BILLING CODE 4510-30-P